DEPARTMENT OF TRANSPORTATION

Federal Motor Carrier Safety Administration

Elimination of USDOT Number Registrant-Only Classification

AGENCY: Federal Motor Carrier Safety Administration (FMCSA), DOT.

ACTION: Notice of procedural changes to the Performance and Registration Information Systems Management Program.

SUMMARY: FMCSA announces elimination of the “registrant-only” USDOT number as part of the Performance and Registration Information Systems Management (PRISM) program. FMCSA developed the concept of a “registrant-only” USDOT number to identify registered owners of commercial motor vehicles (CMVs) that are not motor carriers, but lease their CMVs to entities that are motor carriers. FMCSA has concluded that registrant-only USDOT numbers are being used differently from what the Agency intended and thus the practice of issuing registrant-only numbers to entities that are not motor carriers is having an adverse affect on the Agency's ability to track motor carriers' safety violations. As a result, FMCSA made the decision to eliminate the PRISM procedure that requires non-motor carrier registrants to obtain USDOT numbers, and will maintain all existing numbers as dormant registrant-only USDOT numbers.

DATES: The effective date of the change is September 1, 2011.

FOR FURTHER INFORMATION CONTACT: Tom Lawler, Department of Transportation, Federal Motor Carrier Safety Administration, 1200 New Jersey Avenue, SE., Washington, DC 20590. (202) 366-3866 (telephone), 202-366-3375 (fax), tom.lawler@dot.gov (e-mail).

Background

PRISM was created by Section 4003 of the Intermodal Surface Transportation Efficiency Act of 1991 (ISTEA), Public Law 102-240 (105 Stat.1914, 2144, Dec. 18, 1991) as a demonstration project. The goal of the demonstration project was to explore the potential benefits of using State commercial vehicle registration sanctions as an incentive to improve motor carrier safety [49 U.S.C. 31106(b)]. In 1998, Congress authorized additional funding through Section 4004 of the Transportation Equity Act for the 21st Century (TEA-21), Public Law 105-178 (112 Stat. 107, 398, June 9, 1998) to implement the PRISM program nationwide.

In 1999, FMCSA created the “registrant-only” USDOT number classification to identify registered owners of CMVs that are not motor carriers but lease their CMVs to entities that are motor carriers. Because the registrant is not a motor carrier, the registrant-only USDOT number is used to track ownership of CMVs in the Motor Carrier Management Information System (MCMIS). A registrant-only USDOT number does not authorize a non-motor carrier to operate in interstate commerce, and it should not have any safety events assigned to it. However, in numerous cases, law enforcement personnel have been presented a registrant-only number during inspections and crash investigations. As a result, data that should be assigned to the record of the motor carrier operating the CMV has been erroneously assigned to the registrant-only DOT number. The Agency conducted an analysis in 2009 and found that over 35,500 (18%) of the more than 200,000 registrant-only records in MCMIS contained crash and inspection activity that should have been recorded on the lessee's motor carrier record.

Placement of this information on a registrant-only record adversely affects the accuracy of FMCSA's safety monitoring system. Motor carriers that improperly use registrant-only numbers can evade FMCSA oversight, including compliance reviews and new entrant program audits. In addition, if safety events are not properly attributed to the motor carriers operating CMVs, FMCSA cannot factor those events into the motor carriers' safety ratings.

Action To Be Taken

On September 1, 2011, FMCSA will eliminate the practice of allowing non-motor carrier registrants to obtain registrant-only USDOT numbers. Approximately 40 of the State jurisdictions that are PRISM members will be affected by this change. Members will need to modify their forms, instruction manuals, computer systems' validation and safety edits, renewal application and MCS-150 edits and procedures. FMCSA will be working with members to make the necessary changes. The goal is for members to make these changes by August 31, 2011.

While members are modifying their systems, the FMCSA Division Offices will be researching the events attributed to the registrant-only records and reassigning the events to the proper motor carrier record on MCMIS, or, if appropriate, changing the non-motor carrier to motor carrier status. The registrant-only USDOT numbers will remain on MCMIS as dormant numbers unless a non-motor carrier changes its status to motor carrier. FMCSA's goal is to have all of the records corrected by December 31, 2011.

Issued on: July 30, 2010.
Anne S. Ferro,
Administrator.

[FR Doc. 2010-19593 Filed 8-6-10; 8:45 am]

BILLING CODE 4910-EX-P